DEPARTMENT OF ENERGY

Federal Energy Regulatory Commission

[Project No. 372-008]

Southern California Edison Company; Notice Granting Late Intervention

June 10, 2004.

On November 5, 1998, the Commission issued a notice of the application for a new license filed by Southern California Edison Company for the Lower Tule River Hydroelectric Project No. 372, located on the Middle Fork Tule River in Tulare County, California, partially within the Sequoia National Forest. The notice established January 5, 1998, as the deadline for filing motions to intervene in the proceeding.

On April 14, 2000, and October 16, 2000, respectively, the Public Utilities Commission of the State of California and the California Department of Fish and Game filed late motions to intervene in the proceeding. Granting the late motions to intervene will not unduly delay or disrupt the proceeding, or prejudice other parties to it. Therefore, pursuant to Rule 214,¹ the late motions to intervene in the Lower Tule Hydroelectric Project proceeding are granted, subject to the Commission's rules and regulations.

¹ 18 CFR 385.214 (2004).

Linda Mitry,
Acting Secretary.

[FR Doc. E4-1361 Filed 6-17-04; 8:45 am]

BILLING CODE 6717-01-P